SURFACE TRANSPORTATION BOARD

[Docket No. EP 526 (Sub-No. 10)]

Notice of Railroad-Shipper Transportation Advisory Council Vacancies

AGENCY: Surface Transportation Board (Board).

ACTION: Notice of vacancies on the Railroad-Shipper Transportation Advisory Council (RSTAC) and solicitation of nominations.

SUMMARY: The Board hereby gives notice of vacancies on RSTAC for two small shipper representatives, one large shipper representative, two small railroad representatives, and two large railroad representatives. The Board seeks suggestions for candidates to fill these vacancies.

DATES: Nominations are due on January 22, 2018.

ADDRESSES: Suggestions may be submitted either via the Board's e-filing format or in the traditional paper format. Any person using e-filing should attach a document and otherwise comply with the instructions at theE-FILING link on the Board's website, at http://www.stb.gov. Any person submitting a filing in the traditional paper format should send an original and 10 copies to: Surface Transportation Board, Attn: Docket No. EP 526 (Sub-No. 10), 395 E Street SW, Washington, DC 20423-0001 (if sending via express company or private courier, please use zip code 20024). Please note that submissions will be available to the public at the Board's offices and posted on the Board's website under Docket No. EP 526 (Sub-No. 10).

FOR FURTHER INFORMATION CONTACT: Katherine Bourdon at 202-245-0285. Assistance for the hearing impaired is available through the Federal Information Relay Service (FIRS) at1-800-877-8339.

SUPPLEMENTARY INFORMATION: The Board, created in 1996 to take over many of the functions previously performed by the Interstate Commerce Commission, exercises broad authority over transportation by rail carriers, including regulation of railroad rates and service (49 U.S.C. 10701-47, 11101-24), the construction, acquisition, operation, and abandonment of rail lines (49 U.S.C. 10901-07), as well as railroad line sales, consolidations, mergers, and common control arrangements (49 U.S.C. 10902, 11323-27).

RSTAC was established upon the enactment of the ICC Termination Act of 1995 (ICCTA) on December 29, 1995, to advise the Board's Chairman, the Secretary of Transportation, the Committee on Commerce, Science, and Transportation of the Senate, and the Committee on Transportation and Infrastructure of the House of Representatives with respect to rail transportation policy issues RSTAC considers significant. RSTAC focuses on issues of importance to small shippers and small railroads, including car supply, rates, competition, and procedures for addressing claims. ICCTA instructs RSTAC to endeavor to develop private-sector mechanisms to prevent, or identify and address, obstacles to the most effective and efficient transportation system practicable. RSTAC also prepares an annual report concerning its activities and recommendations on whatever regulatory or legislative relief it considers appropriate. RSTAC is not subject to the Federal Advisory Committee Act.

RSTAC currently consists of 19 members. Of this number, 15 members are appointed by the Chairman of the Board, and the remaining four members are comprised of the Secretary of Transportation and the Members of the Board, who serve as ex officio, nonvoting members. Of the 15 appointed members, nine are voting members and are appointed from senior executive officers of organizations engaged in the railroad and rail shipping industries. At least four of the voting members must be representatives of small shippers as determined by the Chairman, and at least four of the voting members must be representatives of Class II or III railroads. The remaining six members to be appointed—three representing Class I railroads and three representing large shipper organizations—serve in a nonvoting, advisory capacity, but are entitled to participate in RSTAC deliberations.

RSTAC is required by statute to meet at least semi-annually. In recent years, RSTAC has met four times a year. Meetings are generally held at the Board's headquarters in Washington, DC, although some meetings are held in other locations.

RSTAC members receive no compensation for their services and are required to provide for the expenses incidental to their service, including travel expenses, as the Board cannot provide for these expenses. RSTAC may solicit and use private funding for its activities, again subject to certain restrictions in ICCTA. RSTAC members currently have elected to submit annual dues to pay for RSTAC expenses.

RSTAC members must be citizens of the United States and represent as broadly as practicable the various segments of the railroad and rail shipper industries. They may not be full-time employees of the United States. According to revised guidance issued by the Office of Management and Budget, it is permissible for federally registered lobbyists to serve on advisory committees, such as RSTAC, as long as they do so in a representative capacity, rather than an individual capacity. See Revised Guidance on Appointment of Lobbyists to Fed. Advisory Comms., Bds., & Comm'ns., 79 FR 47,482 (Aug. 13, 2014). Members of RSTAC are appointed to serve in a representative capacity.

RSTAC members are appointed for three-year terms. A member may serve after the expiration of his or her term until a successor has taken office. No member will be eligible to serve in excess of two consecutive terms.

Due to the expiration of several RSTAC members' terms, vacancies exist for the following: Two small shipper representatives, one large shipper representative, two small railroad representatives, and two large railroad representatives. Upon appointment by the Board Chairman, the new representatives will serve for three years and may be eligible to serve a second three-year term following the end of their first term.

Suggestions for candidates to fill these vacancies should be submitted in letter form, identify the name of the candidate, provide a summary of why the candidate is qualified to serve on RSTAC, and contain a representation that the candidate is willing to serve as an RSTAC member effective immediately upon appointment. RSTAC candidate suggestions should be filed with the Board by January 22, 2018. Members selected to serve on RSTAC are chosen at the discretion of the Board Chairman. Please note that submissions will be available to the public at the Board's offices and posted on the Board's website under Docket No. EP 526 (Sub-No. 10).

Authority: 49 U.S.C. 1325.

Decided: December 21, 2017.
By the Board, Scott M. Zimmerman, Acting Director, Office of Proceedings.
Jeffrey Herzig,
Clearance Clerk.

[FR Doc. 2017-28011 Filed 12-27-17; 8:45 am]

BILLING CODE 4915-01-P